DEPARTMENT OF COMMERCE

International Trade Administration

[A-520-804]

Certain Steel Nails From the United Arab Emirates: Postponement of Preliminary Determination of Antidumping Duty Investigation

AGENCY: Import Administration, International Trade Administration, Department of Commerce.

DATES: Effective Date: August 22, 2011.

FOR FURTHER INFORMATION CONTACT: Michael A. Romani at (202) 482-0198, AD/CVD Operations, Office 5, Import Administration, International Trade Administration, U.S. Department of Commerce, 14th Street and Constitution Avenue, NW., Washington, DC 20230.

SUPPLEMENTARY INFORMATION:

Postponement of Preliminary Determination

On April 27, 2011, the Department of Commerce (the Department) initiated the antidumping duty investigation on nails from the United Arab Emirates. See Certain Steel Nails From the United Arab Emirates: Initiation of Antidumping Duty Investigation, 76 FR 23559 (April 27, 2011). The notice of initiation stated that the Department would issue its preliminary determination for this investigation no later than 140 days after the issuance of the initiation in accordance with section 733(b)(1)(A) of the Tariff Act of 1930, as amended (the Act), and 19 CFR 351.205(b)(1) unless postponed.

On August 8, 2011, Mid Continent Nail Corporation (the petitioner) made a timely request pursuant to section 733(c)(1) of the Act and 19 CFR 351.205(b)(2) and (e) for postponement of the preliminary determination in this investigation. The petitioner requested a 50-day postponement of the preliminary determination in order to allow the Department additional time to resolve a number of complex issues in this investigation.

The petitioner submitted a request for postponement of the preliminary determination more than 25 days before the scheduled date of the preliminary determination. See 19 CFR 351.205(e). Therefore, because the petitioner provided reasons for its request and the Department finds no compelling reasons to deny the request, the Department is postponing the deadline for the preliminary determination in accordance with section 733(c)(1)(A) of the Act and 19 CFR 351.205(b)(2) and (e) by 50 days to October 27, 2011. The deadline for the final determination will continue to be 75 days after the date of the preliminary determination unless extended.

This notice is issued and published pursuant to section 733(c)(2) of the Act and 19 CFR 351.205(f)(1).

Dated: August 15, 2011.
Christian Marsh,
Acting Deputy Assistant Secretary for Import Administration.

[FR Doc. 2011-21387 Filed 8-19-11; 8:45 am]

BILLING CODE 3510-DS-P